DEPARTMENT OF ENERGY

Federal Energy Regulatory Commission

Combined Notice of Filings #1

Take notice that the Commission received the following electric corporate filings:

Docket Numbers: EC17-89-000.

Applicants: Comanche Solar PV, LLC.

Description: Application for Authorization under Section 203 of the Federal Power Act and Request for Waivers, Confidential Treatment, Expedited Action and Shortened Comment Period of Comanche Solar PV, LLC.

Filed Date: 3/9/17.

Accession Number: 20170309-5249.

Comments Due: 5 p.m. ET 3/30/17.

Take notice that the Commission received the following exempt wholesale generator filings:

Docket Numbers: EG17-73-000.

Applicants: Midway Solar, LLC.

Description: Notice of Self-Certification of Exempt Wholesale Generator Status of Midway Solar, LLC.

Filed Date: 3/9/17.

Accession Number: 20170309-5094.

Comments Due: 5 p.m. ET 3/30/17.

Take notice that the Commission received the following electric rate filings:

Docket Numbers: ER10-2669-010; ER10-2670-010; ER14-1219-003; ER13-2477-008; ER10-2674-010; ER10-2585-006; ER11-3589-004; ER15-1596-003; ER15-1597-002; ER15-1598-003; ER15-1599-003; ER14-1569-004; ER15-1600-002; ER15-1602-002; ER10-2619-006; ER15-1603-002; ER15-1604-002; ER10-2616-010; ER15-1605-002; ER11-4398-006; ER10-2590-005; ER10-2593-005; ER11-4400-007; ER15-1958-002; ER15-1606-002; ER15-1607-002; ER15-1608-002; ER10-3247-011; ER10-1547-010; ER14-922-004; ER14-883-005; ER14-924-004; ER13-2475-008; ER11-3866-013; ER12-192-011; ER11-3867-013; ER15-2535-001; ER11-3857-013; ER14-1699-003; ER10-1974-018; ER10-1550-011; ER10-1975-019; ER10-2619-007; ER10-2677-010; ER11-4266-012; ER10-2613-006; ER10-2678-009.

Applicants: ANP Bellingham Energy Company, LLC, Northeastern Power Company, Sithe/Independence Power Partners, L.P., Richland-Stryker Generation LLC, Pleasants Energy, LLC, Ontelaunee Power Operating Company, LLC, Milford Power, LLC, Milford Power Company, LLC, Midwest Electric Power, Inc., MASSPOWER, Liberty Electric Power, LLC, Lake Road Generating Company, L.P., Kincaid Generation, L.L.C., Illinois Power Resources Generating, LLC, Illinois Power Marketing Company, Illinois Power Generating Company, Hopewell Cogeneration Limited Partnership, Electric Energy, Inc., Dynegy Zimmer, LLC, Dynegy Stuart, LLC, Dynegy Resources Management, LLC, Dynegy Power Marketing, LLC, Dynegy Oakland, LLC, Dynegy Moss Landing, LLC, Dynegy Midwest Generation, LLC, Dynegy Miami Fort, LLC, Dynegy Marketing and Trade, LLC, Dynegy Lee II, LLC, Dynegy Killen, LLC, Dynegy Kendall Energy, LLC, Dynegy Fayette II, LLC, Dynegy Energy Services, LLC, Dynegy Energy Services (East), LLC, Dynegy Dicks Creek, LLC, Dynegy Conesville, LLC, Dynegy Commercial Asset Management, LLC, Dighton Power, LLC, Casco Bay Energy Company, LLC, Calumet Energy Team, LLC, Brayton Point Energy, LLC, Armstrong Power, LLC, ANP Blackstone Energy Company, LLC, Dynegy Hanging Rock II, LLC, Dynegy Washington II, LLC, Northeast Energy Associates, A Limited Partnership, North Jersey Energy Associates, A Limited Partnership., Troy Energy, LLC.

Description: Notification of Change in Status of the Dynegy MBR Sellers.

Filed Date: 3/9/17.

Accession Number: 20170309-5248.

Comments Due: 5 p.m. ET 3/30/17.

Docket Numbers: ER17-1137-000.

Applicants: Florida Power & Light Company.

Description: § 205(d) Rate Filing: FPL and New Hope Power Company Standard LGIA Service Agreement No. 336 to be effective 2/28/2017.

Filed Date: 3/9/17.

Accession Number: 20170309-5214.

Comments Due: 5 p.m. ET 3/30/17.

Docket Numbers: ER17-1138-000.

Applicants: PJM Interconnection, L.L.C.

Description: § 205(d) Rate Filing: Revisions to the OATT and RAA RE External Capacity Performance Enhancements to be effective 5/9/2017.

Filed Date: 3/9/17.

Accession Number: 20170309-5215.

Comments Due: 5 p.m. ET 3/30/17.

Take notice that the Commission received the following qualifying facility filings:

Docket Numbers: QF17-742-000.

Applicants: Department of Veteran Affairs, VHA.

Description: Form 556 of Department of Veteran Affairs, VHA.

Filed Date: 3/9/17.

Accession Number: 20170309-5240.

Comments Due: None Applicable.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 10, 2017.
Nathaniel J. Davis, Sr.,
Deputy Secretary.

[FR Doc. 2017-05434 Filed 3-17-17; 8:45 am]

BILLING CODE 6717-01-P